DEPARTMENT OF DEFENSE

Office of the Secretary

Notice of Availability of the Draft Programmatic Environmental Impact Statement for DTRA Activities on White Sands Missile Range, New Mexico

AGENCY: Department of Defense, Office of the Under Secretary of Defense for Acquisition, Technology, and Logistics, Defense Threat Reduction Agency.

ACTION: Notice of availability of final programmatic environmental impact statement (PEIS) for increased testing activities at White Sands Missile Range (WSMR), NM.

SUMMARY: Pursuant to the National Environmental Policy Act of 1969, as amended (NEPA) (42 U.S.C. 4321 et seq.) and the Council on Environmental Quality Regulations for Implementing the Procedural Provisions of NEPA (40 CFR Parts 1500-1508), DTRA has prepared and issued a final PEIS for the proposed testing activities at WSMR. The PEIS addresses the potential environmental impacts associated with implementing the proposed action, alternative, and no action alternative over a 10 year period. The purpose of the proposed action is to provide adequate test areas and facilities to evaluate the lethality effectiveness of weapon systems used against simulated enemy ground targets producing, storing, or controlling Weapons of Mass Destruction (WMD). There is a need to improve weapon systems designed to defeat enemy military assets including hardened and reinforced structures. These enemy military assets can house WMD and pose a significant threat to international stability and peaceful coexistence among nations. The military structures and equipment of the United States and its allies must also be refined to better withstand attack by enemy weapons systems to reduce collateral damage. The PEIS presents descriptions of the proposed action, an overview of the affected environment at and near the test sites, and the potential environmental consequences associated with the proposed action and alternatives, including the no action alternative.

The final PEIS evaluates two alternatives in addition to the no action alternative. The proposed action (alternative 1, DTRA's Preferred Alternative) involves expanding existing test beds and creating new ones; expanding the range of test types including targets, simulants, delivery systems and explosives; implementing infrastructure improvements at the Permanent High Explosive Test Site Administrative Park; and testing special weapons and delivery systems.

Alternative two contains all of the actions described in alternative one plus the use of chemical simulants and taggants/tracers that are considered to have higher toxicity levels than those considered under alternative one. The increased hazards of using these chemicals lead to identifying alternative one as the preferred alternative.

DATES: Effective Dates: DTRA will take no final action on the proposed activities before April 15, 2007 or April 16, 2007. After April 15, 2007, DTRA will issue a Record of Decision (ROD). This ROD will document the Agency's final determinations, in light of the PEIS, with regard to its intended activities at WSMR. A NoA will be published in the Federal Register announcing the ROD's availability for public viewing.

ADDRESSES: The final PEIS is available for public viewing on the DTRA Web site, http://www.dtra.mil, and at the following public libraries: Albuquerque Public Library, 501 Copper Ave. Northwest, Albuquerque, NM; Socorro Public Library, 401 Park Street, Socorro, NM; Alamogordo Public Library, 920 Oregon Ave., Alamogordo, NM; Branigan Memorial Library, 200 East Picacho Ave., Law Cruces, NM; Consolidated Library Building 464, White Sands Missile Range, NM; Holloman Air Force Base Library, 596 4th Street, Holloman Air Force Base, NM; and the El Paso Public Library, 501 North Oregon Street, El Paso, TX.

FOR FURTHER INFORMATION CONTACT: DTRA Public Affairs Office; (800) 701-5096 or (703) 767-5870.

SUPPLEMENTARY INFORMATION: A draft PEIS was published in the Federal Register on January 27, 2006 (71 FR 4571) for a 60-day public review and comment period that ended March 28, 2006. Public hearings were held February 28, 2006 in Alamogordo, March 1, 2006 in Las Cruces, and March 2, 2006 in Socorro, NM. All comments received were addressed and incorporated into the final PEIS.

Dated: March 9, 2007.
L.M. Bynum,
Alternate OSD Federal Register Liaison Officer, DoD.

[FR Doc. 07-1214 Filed 3-14-07; 8:45 am]

BILLING CODE 5001-06-M